DEPARTMENT OF ENERGY

Federal Energy Regulatory Commission

Combined Notice of Filings #1

Take notice that the Commission received the following electric corporate filings:

Docket Numbers: EC24-88-000.

Applicants: SR Arlington II, LLC, SR Arlington II MT, LLC.

Description: Joint application for authorization under Section 203 of the Federal Power Act of SR Arlington II, LLC, et al.

Filed Date: 6/14/24.

Accession Number: 20240614-5227.

Comment Date: 5 p.m. ET 7/5/24.

Docket Numbers: EC24-89-000.

Applicants: Albemarle Beach Solar, LLC, NC Solar (Fund IV) Holdings II, LLC.

Description: Application for authorization under Section 203 of the Federal Power Act of Albemarle Beach Solar, LLC.

Filed Date: 6/14/24.

Accession Number: 20240614-5232.

Comment Date: 5 p.m. ET 7/5/24.

Docket Numbers: EC24-90-000.

Applicants: Robison Energy, LLC.

Description: Application for Authorization Under Section 203 of the Federal Power Act of Robison Energy LLC.

Filed Date: 6/17/24.

Accession Number: 20240617-5150.

Comment Date: 5 p.m. ET 7/8/24.

Take notice that the Commission received the following exempt wholesale generator filings:

Docket Numbers: EG24-205-000.

Applicants: PP Jaguar BESS LLC.

Description: PP Jaguar BESS LLC submits Notice of Self-Certification of Exempt Wholesale Generator Status.

Filed Date: 6/17/24.

Accession Number: 20240617-5152.

Comment Date: 5 p.m. ET 7/8/24.

Take notice that the Commission received the following electric rate filings:

Docket Numbers: ER24-1740-001.

Applicants: Southern California Edison Company.

Description: Report Filing: South Georgia Adjustment Deficiency Response to be effective N/A.

Filed Date: 6/17/24.

Accession Number: 20240617-5067.

Comment Date: 5 p.m. ET 6/24/24.

Docket Numbers: ER24-2288-000.

Applicants: PacifiCorp.

Description: § 205(d) Rate Filing: Tri-State_PacifiCorp NITSA Rev 13 to be effective 6/1/2024.

Filed Date: 6/14/24.

Accession Number: 20240614-5191.

Comment Date: 5 p.m. ET 7/5/24.

Docket Numbers: ER24-2289-000.

Applicants: PJM Interconnection, L.L.C.

Description: § 205(d) Rate Filing: Original WMPA SA No. 7259, Queue AG1-037 to be effective 5/20/2024.

Filed Date: 6/17/24.

Accession Number: 20240617-5054.

Comment Date: 5 p.m. ET 7/8/24.

Docket Numbers: ER24-2290-000.

Applicants: Arizona Public Service Company.

Description: § 205(d) Rate Filing: Service Agreement No. 192, ANPP Hassayampa Revisions to be effective 8/17/2024.

Filed Date: 6/17/24.

Accession Number: 20240617-5108.

Comment Date: 5 p.m. ET 7/8/24.

Docket Numbers: ER24-2291-000.

Applicants: Portland General Electric Company.

Description: Initial rate filing: PGE BPA MO&amp;O Agreement Rate Schedule No. 303 to be effective 8/17/2024.

Filed Date: 6/17/24.

Accession Number: 20240617-5124.

Comment Date: 5 p.m. ET 7/8/24.

Docket Numbers: ER24-2292-000.

Applicants: Tri-State Generation and Transmission Association, Inc.

Description: § 205(d) Rate Filing: Initial Filing of Rate Schedule FERC No. 372 to be effective 5/16/2024.

Filed Date: 6/17/24.

Accession Number: 20240617-5131.

Comment Date: 5 p.m. ET 7/8/24.

Docket Numbers: ER24-2293-000.

Applicants: Citizens S-Line Transmission LLC.

Description: Petition for limited waiver of Citizens S-Line Transmission LLC.

Filed Date: 6/13/24.

Accession Number: 20240613-5163.

Comment Date: 5 p.m. ET 7/5/24.

Docket Numbers: ER24-2294-000.

Applicants: PJM Interconnection, L.L.C.

Description: § 205(d) Rate Filing: Original WMPA No. 7261, Queue AF1-239 to be effective 5/20/2024.

Filed Date: 6/17/24.

Accession Number: 20240617-5143.

Comment Date: 5 p.m. ET 7/8/24.

Docket Numbers: ER24-2295-000.

Applicants: Cavalry Energy Center, LLC.

Description: Tariff Amendment: Notice of Cancellation of Market-Based Rate Tariff to be effective 6/18/2024.

Filed Date: 6/17/24.

Accession Number: 20240617-5147.

Comment Date: 5 p.m. ET 7/8/24.

Docket Numbers: ER24-2296-000.

Applicants: Midcontinent Independent System Operator, Inc.

Description: § 205(d) Rate Filing: 2024-06-17_SA 4094 Termination of NIPSCO-Valpo Solar GIA (J1332) to be effective 6/6/2024.

Filed Date: 6/17/24.

Accession Number: 20240617-5164.

Comment Date: 5 p.m. ET 7/8/24.

Docket Numbers: ER24-2297-000.

Applicants: Ross County Solar, LLC.

Description: Baseline eTariff Filing: Application for Market Based Rate to be effective 7/15/2024.

Filed Date: 6/17/24.

Accession Number: 20240617-5166.

Comment Date: 5 p.m. ET 7/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 17, 2024.
Debbie-Anne A. Reese,
Acting Secretary.

[FR Doc. 2024-13801 Filed 6-21-24; 8:45 am]

BILLING CODE 6717-01-P